DEPARTMENT OF THE TREASURY

Alcohol and Tobacco Tax and Trade Bureau

27 CFR Parts 26 and 31

[Docket No. TTB-2024-0006; T.D. TTB-196A; T.D. TTB-196]

RIN 1513-AB93

Technical Corrections to the TTB Regulations; Corrections

AGENCY: Alcohol and Tobacco Tax and Trade Bureau, Treasury.

ACTION: Final rule; Treasury decision; correction.

SUMMARY: The Alcohol and Tobacco Tax and Trade Bureau (TTB) recently published a final rule in the Federal Register of November 6, 2024, making technical corrections to certain of its regulations. This document corrects two minor, non-substantive errors in the amendatory instructions in that final rule.

DATES: This final rule correction is effective December 6, 2024.

FOR FURTHER INFORMATION CONTACT: Michael D. Hoover, Regulations and Rulings Division, Alcohol and Tobacco Tax and Trade Bureau, 1310 G Street NW, Box 12, Washington, DC 20005; phone 202-453-1039, ext. 135.

SUPPLEMENTARY INFORMATION: The Alcohol and Tobacco Tax and Trade Bureau (TTB) recently published a final rule making technical corrections to certain of its regulations in 27 CFR chapter I. That final rule appeared in the Federal Register of November 6, 2024 (89 FR 87931). This document corrects two non-substantive errors in the amendatory instructions in that final rule. The errors described below were inadvertent, and their correction does not alter the intended meaning of any regulatory section contained in the final rule.

Corrections

In the final rule document numbered FR Doc. 2024-23662 appearing on pages 87931 through 87953 in the Federal Register issue of Wednesday, November 6, 2024, make the following corrections:

§ 26.87 [Corrected]

1. On page 87944, in amendatory instruction 71, in the table, in the first entry for § 26.87, in the third column, “they shall,.” is corrected to read “they shall”.

§ 31.11 [Corrected]

2. On page 87946, in amendatory instruction 90, in the table, in the second entry for § 31.11(b), in the second column, “Room 1516” is corrected to read “Suite 8002”.

Signed: December 3, 2024.
Mary G. Ryan,
Administrator.

[FR Doc. 2024-28566 Filed 12-5-24; 8:45 am]

BILLING CODE 4810-31-P